DEPARTMENT OF DEFENSE

Department of the Navy

Notice of Availability of Government-Owned Inventions; Available for Licensing

AGENCY: Department of the Navy, DoD.

ACTION: Notice of availability for licensing.

SUMMARY: The Department of the Navy (DoN) announces the availability of the inventions listed below, assigned to the United States Government, as represented by the Secretary of the Navy, for domestic and foreign licensing by the Department of the Navy.

ADDRESSES: Requests for copies of the patents cited should be directed to Naval Surface Warfare Center, Crane Div., Code OOL, Bldg 2, 300 Highway 361, Crane, IN 47522-5001.

FOR FURTHER INFORMATION CONTACT: Mr. Christopher Monsey, Naval Surface Warfare Center, Crane Div., Code OOL, Bldg 2, 300 Highway 361, Crane, IN 47522-5001, Email Christopher.Monsey@navy.mil.

SUPPLEMENTARY INFORMATION: The following patents are available for licensing: Patent No. 9,752,721 (Navy Case No. 100877): Portable Equipment System Mount//Patent No. 9,753,445 (Navy Case No. 200434): DUT Continuity Test With Only Digital IO Structures Apparatus and Methods Associated Thereof//Patent No. 9,772,818 (Navy Case No. 103042): Event Detection System Having Multiple Sensor Systems in Cooperation With an Impact Detection System//Patent No. 9,778,000 (Navy Case No. 200364): Off-Board Influence System//and Patent No. 9,778,008 (Navy Case No. 200308): Explosive Assembly Systems Including a Linear Shaped Charge End Prime Cap Apparatus and Related Methods.

Authority: 35 U.S.C. 207, 37 CFR part 404.

Dated: November 14, 2017.
E.K. Baldini,
Lieutenant Commander, Judge Advocate General's Corps, U.S. Navy, Federal Register Liaison Officer.

[FR Doc. 2017-25071 Filed 11-17-17; 8:45 am]

BILLING CODE 3810-FF-P